DEPARTMENT OF TRANSPORTATION

Federal Transit Administration

[FTA Docket No. 2015-0032]

Notice of Request for the Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to renew the following information collection:

49 U.S.C. Section 5312(a) Transit Research, Development, Demonstration and Training Projects

OMB Control No.: 2132-0546

Background: 49 U.S.C. 5312(a) authorizes the Secretary of Transportation to make grants or contracts for research, development, demonstration and deployment projects, and for evaluation of technology of national significance to public transportation, that the Secretary determines will improve mass transportation service or help transportation service meet the total urban transportation needs at a minimum cost. In carrying out the provisions of this section, the Secretary is also authorized to request and receive appropriate information from any source. The information collected is submitted as part of the application for grants and cooperative agreements and is used to determine eligibility of applicants. Collection of this information also provides documentation that the applicants and recipients are meeting program objectives and are complying with FTA Circular 6100.1D and other federal requirements

DATES: Comments must be submitted before February 19, 2016.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT: Jamie Pfister, Office of Research, Demonstration and Innovation (202) 366-5424, or email: jamie.pfister@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

In addition to 49 U.S.C. 5312, FTA intends to amend this information collection to include other related programs which support Transit Research, Technical Assistance and Standards, and Human Resources and Training. Once amended and issued, this information collection will cover: (1) Research, Development, Demonstration, and Deployment program(49 U.S.C. 5312), which supports applied research, data collection, analyses, demonstration and deployment activities and evaluations related to transit system; (2) Transit Cooperative Research Program (49 U.S.C. 5313) which provides funds to the National Academy of Sciences to conduct investigative research on subjects related to public transportation; (3) Technical Assistance and Standards Development (49 U.S.C. 5314) program which will allow FTA to partner with national non-profits and other organizations to provide technical assistance to communities; and (4) Human Resources and Training (49 U.S.C. 5322) program to fund the National Transit Institute and to build new Ladders of Opportunity by creating new employment pathways into the transit industry, improving employment training, pursuing outreach to increase minority and female employment in the public transportation sector, conducting research on the skill needed to operate and maintain increasingly complex transit vehicle and equipment systems, and supporting training and assistance for minority business owners, as well as other topics.

Respondents: FTA grant and cooperative agreement recipients.

Estimated Annual Burden on Respondents: 90 hours for each of the 175 respondents.

Estimated Total Annual Burden: 20,590 hours at application stage, post award and project management activities.

Frequency: Every two years.

William Hyre,
Deputy Associate Administrator for Administration.

[FR Doc. 2015-31991 Filed 12-18-15; 8:45 am]

BILLING CODE P